DEPARTMENT OF TRANSPORTATION

Federal Aviation Administration

14 CFR Part 39

[Docket No. FAA-2018-1034; Product Identifier 2018-NE-38-AD]

RIN 2120-AA64

Airworthiness Directives; Rolls-Royce plc Turbofan Engines

Correction

In proposed rule document 2019-10233, appearing on pages 22738 through 22740, in the issue of Monday, May 20, 2019, make the following corrections:

▪ 1. On page 22738, in the first column, in the “DATES”: section, in the second line, “July 1, 2019” should read “July 5, 2019”.

§ 39.13 [Corrected]

▪ 2. On page 22739, in the third column, in the fifth line from the bottom, “July 1, 2019” should read “July 5, 2019”.

[FR Doc. C1-2019-10233 Filed 5-23-19; 8:45 am]

BILLING CODE 1301-00-D